ENVIRONMENTAL PROTECTION AGENCY

[ER-FRL-6253-5]

Environmental Impact Statements and Regulations; Availability of EPA Comments

Availability of EPA Comments Prepared April 3, 2000 Through April 7, 2000 Pursuant to the Environmental Review Process (ERP), Under Section 309 of the Clean Air Act and Section 102(2)(c) of the National Environmental Policy Act as Amended. Requests for copies of EPA comments can be directed to the Office of Federal Activities at (202) 564-7167.

An explanation of the ratings assigned to draft environmental impact statements (EISs) was published in FR dated April 09, 1999 (63 FR 17856).

Draft EISs

ERP No. D-AFS-L65345-WA Rating NR, Deadman Creek Ecosystem Management Projects, Implementation, Kettle Falls Ranger District, Colville National Forest, Ferry County, WA.

Summary: EPA Region X used a screening tool to conduct a limited review of this action. Based upon this screen, EPA does not foresee having any environmental objections to the proposed project. Therefore, EPA will not be conducting a detailed review.

ERP No. D-BLM-K67051-NV Rating EO2, Marigold Mine Expansion Project, Implementation, COE Section 404 Permit, Special-Use-Permit, Humboldt County, NV.

Summary: EPA expressed objections with the project's potential impacts to surface and ground water quality from mine facilities, including the post-closure pit lake; and to air quality, especially from mercury emissions. Additional information was requested regarding impacts to water and air quality, ecological risks, bonding and closure, mitigation measures, and geochemical characterization.

ERP No. D-BLM-L65338-OR Rating EC2, John Day River Management Plan, Implementation, John Day River Basin, Gilliam, Grant, Wheeler, Crook, Harney, Jefferson, Morrow, Sherman, Umatilla, Union and Wasco Counties, OR.

Summary: EPA expressed concern about the degraded environmental conditions in the wild and scenic corridor and the relatively minor adjustments being proposed for land management, which may not be sufficient to protect/enhance the resource values, or comply with state water quality standards. EPA requested that the plan include both implementation and effectiveness monitoring to measure progress in meeting goals/objectives, and to enable BLM and partners to make needed adjustments.

ERP No. D-FHW-G40156-TX Rating EC2, TX-130 Construction, I-35 of Georgetown to I-10 near Seguin, Funding, COE Section 404 Permit, Williamson, Travis, Caldwell, Guadalupe Counties, TX.

Summary: EPA expressed environmental concerns regarding impacts relating to farmlands, relocation/displacement, air quality, wetlands, and cultural resources. EPA requested that additional information on these issues be included in the final document.

ERP No. D-FHW-G40157-TX Rating EC2, Tyler Loop 49 West, Construction from the TX-155 Highway to I-20 Highway, Funding, NPDES and COE Section 404 Permits, Smith County, TX.

Summary: EPA expressed environmental concerns regarding farmland impacts, air quality impacts, and noise impacts. EPA requested that additional information on these issues be incorporated in the final EIS.

ERP No. D-NPS-K65325-CA Rating LO, Merced Wild and Scenic River Comprehensive Management Plan, Implementation, Yosemite National Park and the EL Portal Administrative Site, Tuolumne, Merced, Mono, Mariposa and Madera Counties, CA.

SUMMARY: EPA had no objections to the over all management plan, future concerns might exist for specific tiered projects.

ERP No. DA-AFS-L65155-00 Rating EC2, Northern Spotted Owl Management Plan, Updated Information for Amendment to the Survey and Manage, Protection Buffer and Other Mitigating Measures, Standards and Guidelines (to the Northwest Forest Plan), Late-Successional and Old Growth Forest Related Species Within the Range of the Northern Spotted Owl, OR, WA and CA.

Summary: EPA expressed concern regarding project impacts for those species removed from protection and/or provided less protection than in the original plan. EPA also expressed concern about certain aspects of the proposed management direction for those species that will continue to be covered by these Standards and Guidelines and about the social/economic implications of the plan.

ERP No. DS-COE-H36012-MO Rating EU3, St. Johns Bayou and New Madrid Floodway, Channel Enlargement and Improvement, Flood Control, National Economic Development (NED) Mississippi River & Tributaries, MO.

Summary:EPA expressed significant objections regarding the lack of information regarding potential impacts to over 36,000 acres of wetlands in the Mississippi River floodplain. EPA requested that the Corps formally revise the Draft Supplemental EIS to include further development of alternatives, improved wetlands determinations, cumulative impact analysis, water quality impacts, and appropriate mitigation measures.

Final EISs

ERP No. F-FHW-K40216-AZ, AZ-260 Transportation Improvements, between Payson and Heber, Funding, NPDES and COE Section 404 Permits, Gila, Coconino and Navajo Counties, AZ.

Summary: No formal comment letter was sent to the preparing agency.

ERP No. F-NPS-H61020-00, Missouri National Recreational River, General Management Plan, Implementation, Cedar and Dixon Counties, NB and Yakton, Clay and Union Counties, SD.

Summary: EPA has no objections with the General Management Plan described in the FEIS.

Dated: April 18, 2000.
B. Katherine Biggs,
Associate Director, NEPA Compliance Division.

[FR Doc. 00-10029 Filed 4-20-00; 8:45 am]

BILLING CODE 6560-50-P